DEPARTMENT OF ENERGY

10 CFR Part 431

[Docket No. EERE-2012-BT-DET-0033]

RIN 1904-AC83

Energy Conservation Program for Consumer Products and Certain Commercial and Industrial Equipment: Proposed Determination of Commercial and Industrial Compressors as Covered Equipment

AGENCY: Office of Energy Efficiency and Renewable Energy, Department of Energy.

ACTION: Notice of reopening of public comment period.

SUMMARY: This notice announces that the period for submitting comments to the notice of proposed determination, published December 31, 2012, about commercial and industrial compressors is reopening to February 28, 2013.

DATES: The Department of Energy will accept comments, data, and information about the notice of proposed determination, but no later than February 28, 2013.

ADDRESSES: Interested persons may submit comments, identified by docket number EERE-2012-BT-DET-0033 or RIN 1904-AC83, by any of the following methods:

• Federal eRulemaking Portal: http://www.regulations.gov. Follow the instructions for submitting comments.

• Email: CompressorsDetermination.2012DET0033@ee.doe.gov. Include EERE-2012-BT-DET-0033 and/or RIN 1904-AC83 in the subject line of the message.

• Mail: Ms. Brenda Edwards, U.S. Department of Energy, Building Technologies Program, Mailstop EE-2J, 1000 Independence Avenue SW., Washington, DC 20585-0121. Telephone: (202) 586-2945. Please submit one signed original paper copy.

• Hand Delivery/Courier: Ms. Brenda Edwards, U.S. Department of Energy, Building Technologies Program, 950 L'Enfant Plaza SW., Suite 600, Washington, DC 20024. Please submit one signed original paper copy.

Instructions: All submissions received must include the agency name and docket number or RIN for this rulemaking.

Docket: The docket is available for review at www.regulations.gov, including Federal Register notices, comments, and other supporting documents/materials. All documents in the docket are listed in the http://www.regulations.gov index. However, not all documents listed in the index may be publicly available, such as information that is exempt from public disclosure.

A link to the docket Web page can be found at: http://www.regulations.gov docket no. EERE-2012-BT-DET-0033. This Web page contains a link to the docket for this notice on the http://www.regulations.gov site that contains instructions on how to access all documents, including public comments, in the docket.

FOR FURTHER INFORMATION CONTACT: Mr. James Raba, U.S. Department of Energy, Office of Energy Efficiency and Renewable Energy, Building Technologies, EE-2J, 1000 Independence Avenue SW., Washington, DC 20585-0121, Telephone: (202) 586-8654. Email: Jim.Raba@ee.doe.gov.

In the Office of General Counsel, contact Ms. Elizabeth Kohl, U.S. Department of Energy, Office of the General Counsel, GC-71, 1000 Independence Avenue SW., Washington, DC 20585. Telephone: (202) 586-7796. Email: Elizabeth.Kohl@hq.doe.gov.

SUPPLEMENTARY INFORMATION: On December 31, 2012, the Department of Energy (DOE) published in the Federal Register (77 FR 76972) a notice of proposed determination that commercial and industrial compressors meet the criteria for covered equipment under Part A-1 of Title III of the Energy Policy and Conservation Act, as amended. The proposed determination provided for the submission of comments no later than January 30, 2013. On January 24, 2013, Edison Electric Institute (EEI) requested an extension of the deadline to provide its comments. EEI raised concerns about the proposed definition of the term “compressor” and the scope of proposed coverage for commercial and industrial compressors. To allow sufficient time for review of such public notice and thereby enable EEI to provide meaningful comments in response to the proposed coverage determination for commercial and industrial compressors, it requested an extension of the comment period.

In view of the EEI request on January 24 and public notice of the availability of the Energy Conservation Standards Rulemaking Framework Document for Commercial and Industrial Pumps on January 25, 2013, at www.regulations.gov, docket identifier EERE-2011-BT-STD-0031-0013; and thereafter on January 28, 2013, the public notice of the availability of the Energy Conservation Standards Rulemaking Framework for Commercial and Industrial Fans and Blowers, at www.regulations.gov, docket identifier EERE-2013-BT-STD-0006-0001, DOE has determined that a reopening of the public comment period is appropriate based on the foregoing reasons and is hereby reopening the comment period for its proposed determination for commercial and industrial compressors as covered equipment. DOE will consider any comments received by February 28, 2013 and deems any comments received between January 30, 2013 and February 28, 2013 to be timely submitted.

Further Information on Submitting Comments

Under 10 CFR 1004.11, any person submitting information that he or she believes to be confidential and exempt by law from public disclosure should submit two copies: One copy of the document including all the information believed to be confidential, and one copy of the document with the information believed to be confidential deleted. DOE will make its own determination about the confidential status of the information and treat it according to its determination.

Factors of interest to DOE when evaluating requests to treat submitted information as confidential include (1) A description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

Issued in Washington, DC, on January 31, 2013.
Kathleen B. Hogan,
Deputy Assistant Secretary for Energy Efficiency, Energy Efficiency and Renewable Energy.

[FR Doc. 2013-02755 Filed 2-6-13; 8:45 am]

BILLING CODE 6450-01-P